DEPARTMENT OF TRANSPORTATION

National Highway Traffic Safety Administration

[Docket No. NHTSA-99-6269; Notice 2]

IMPCO Technologies; Grant of Application for Decision of Inconsequential Noncompliance

IMPCO Technologies (IMPCO), of Irvine, California, has determined that a number of model year (MY) 1997 and (MY) 1998 bi-fueled compressed natural gas (CNG) Chevrolet/GMC C2500 and Sierra model pickup trucks that it altered do not meet the requirements of S5.3 and S5.4 of 49 CFR 571.303, Federal Motor Vehicle Safety Standard (FMVSS) No. 303, “Fuel System Integrity of Compressed Natural Gas Vehicles.” and has filed an appropriate report pursuant to 49 CFR part 573, “Defect and Noncompliance Reports.”

Notice of receipt of the application was published, with a 30-day comment period, on October 7, 1999, in the Federal Register (64 FR 54726). NHTSA received one comment from General Motors Corporation (GM) during the 30-day comment period. GM agreed with IMPCO that the labels and owner's manual supplement information provided with the vehicles were responsive to and consistent with the rationale and intent of FMVSS No. 303.

FMVSS No. 303, S5.3, requires that CNG vehicles shall be permanently labeled, near the vehicle refueling connection, with the information specified in S5.3.1 and S5.3.2.

S5.3.1 requires the statement: “Service pressure _____ kPa (_____ psig),” and S5.3.2 requires the statement “See instructions on fuel container for inspection and service life.”

S5.4 requires that, when a motor vehicle is delivered to the first purchaser, for purposes other than resale, the manufacturer shall provide the purchaser with a written statement of the information in S5.3.1 and S5.3.2 in the owner's manual, or, if there is no owner's manual, on a one-page document.

IMPCO notified the National Highway Traffic Safety Administration that it altered 400 MY 1997 and 285 MY 1998 Chevrolet/GMC C2500 and Sierra model pickup trucks that did not fully comply with the labeling requirements specified in 49 CFR 571.303. IMPCO stated that, as altered, the noncompliance consists of deviations from the wording required on the CNG vehicle label and in the owner's manual.

IMPCO explained that an out-of-date version of FMVSS No. 303, which did not contain specific requirements, was used by the supplier that prepared the label and owner's manual supplement. As a result, the CNG vehicle label applied near the refueling connection, and the owner's manual for the subject vehicles, did not contain the exact statements required by FMVSS No. 303, S5.3 and S5.4.

The required words and actual words used by IMPCO are shown as follows:

FMVSS paragraph | Required label wording | 1997 and 1998 bi-fuel truck label wording
S5.3.1 | SERVICE PRESSURE 24820 kPa (3600 psig) | 3600 PSI SYSTEM OPERATING PRESSURE
S5.3.2 | SEE INSTRUCTIONS ON FUEL CONTAINER FOR INSPECTION AND SERVICE LIFE | SEE CNG OWNERS MANUAL SUPPLEMENT FOR FUEL TANK SERVICE LIFE.

FMVSS paragraph | Required owner's manual wording | CNG truck owner's manual wording | 1997 manual | 1998 manual
S5.4 | SERVICE PRESSURE 24820 kPa (3600 psig) | This system operates at pressures up to 3600 PSI (24.8 MPa). (p. iv) | X | X
|  | The CNG fuel system is designed to use a fill pressure of 3,600 psi (24.8 Mpa) at 70°F (21°C) (P. 6-3) |  | X
|  | 13.2 gallons (equivalent) (50 L) at 3600 psi (24.8 Mpa) and 70°F (21°C) (page 6-6) | X |
|  | 13 GGE (Gasoline Gallon Equivalent) (49 L) at 3600 psi (24.8 Mpa) and 70°F (21°C). (page 6-6) |  | X
|  | 3600 PSI SYSTEM PRESSURE (page 7-7) | X | X
S5.4 | SEE INSTRUCTIONS ON FUEL CONTAINER FOR INSPECTION AND SERVICE LIFE | A trained technician must remove the tank cover and perfrom a CNG fuel tank and mounting bracket inspection every three years or 36,000 miles (60,000 km) whichever comes first. (Page 7-6) | X | X
|  | The CNG fuel tank has a service life of 15 years. After the tank expiration date, the tank must be replaced by an authorized GM dealer. (Page 7-7) | X | X
|  | This (expiration) date is listed on the fuel tank and the fuel tank cover label. (Page 7-7) | X |
|  | This (expiration) date is listed on the fuel tank and the fuel tank, the fuel fill door label and the under-hood bi-fuel information label. (Page 7-7) |  | X
|  | CNG Fuel Tank Inspection Record (page 7-8) | X | X

IMPCO supported its application with the following arguments:

IMPCO believes that the labels and owner's manual supplement information provided with these vehicles are responsive and consistent with the rationale and intent of the requirements, even though the exact words required by the standard are not used. The actual labels and the owner's manual supplement provide equivalent information required by FMVSS 303, S5.3 and S5.4. The CNG refueling valve label clearly states the operating pressure and refers the user to the owner's manual for information about tank service life. Both the refueling valve and the under-hood labels include the service expiration date and the owners manual indicates the service life, inspection information, and provide a form to record the expiration date.

Virtually all CNG refueling stations incorporate an overfill protection system. Granted, a few CNG fill stations exist that are capable of providing a fill greater than 3,000 psi, however, the vehicle fill valve is designed to be incompatible with fill stations that have a fill pressure greater than the vehicle's rated service pressure. For example, a vehicle with a fill valve rated at 3,600 psi would be capable of filling at a 3,600, 3,000 or 2,400 psi fill station. However, it would be incapable of filling at a 5,000 psi fill station.

Also, the subject vehicles are equipped with a CNG container validated up to 200 percent of the service pressure without leakage as required by FMVSS 304, S7.2.2 for such containers. Thus, even in the unlikely event of an overfill, the CNG containers are designed to provide adequate protection. IMPCO has not received any reports of injuries or property damage associated with overfilling of these vehicles and believes it is extremely remote that these deviations from FMVSS 303 label and owner's manual requirements could contribute to an injury or property damage incident.

For all of these reasons, IMPCO believes that this noncompliance is inconsequential to motor vehicle safety. Accordingly, IMPCO petitions that it be exempted from the remedy and recall provisions of the Motor Vehicle Safety Act in this case.

We have reviewed IMPCO's arguments. The primary safety purpose of labeling requirements in FMVSS No. 303 is to ensure that the vehicle owner is aware (1) of the service pressure during refueling operations and (2) that the CNG fuel container has a recommended inspection period and a service life. NHTSA concludes that the labels and owner's manual supplement information provided with these vehicles are consistent with the rationale and intent of the labeling requirements in FMVSS No. 303, even though the exact words required by the standard are not used.

In consideration of the foregoing, NHTSA has decided that the applicant has met its burden of persuasion that the noncompliance described above is inconsequential to motor vehicle safety. Accordingly, its application is granted, and the applicant is exempted from providing the notification of the noncompliance that is required by 49 U.S.C. 30118, and from remedying the noncompliance, as required by 49 U.S.C. 30120.

(49 U.S.C. 30118, 30120, with delegations of authority at 49 CFR 1.50 and 501.8)

Issued on: March 7, 2000.
Stephen R. Kratzke,
Acting Associate Administrator for Safety Performance Standards.

[FR Doc. 00-6061 Filed 3-14-00; 8:45 am]

BILLING CODE 4910-59-P